ENVIRONMENTAL PROTECTION AGENCY

[EPA-HQ-OPPT-2012-0675; FRL-9533-3]

Information Collection Request Submitted to OMB for Review and Approval; Comment Request; EPA's Design for the Environment Formulator Product Recognition Program

AGENCY: Environmental Protection Agency (EPA).

ACTION: Notice.

SUMMARY: The Environmental Protection Agency has submitted an information collection request (ICR), “EPA's Design for the Environment Formulator Product Recognition Program” (EPA ICR No. 2302.02, OMB Control No. 2070-0178), to the Office of Management and Budget (OMB) for review and approval in accordance with the Paperwork Reduction Act (44 U.S.C. 3501 et seq.). This is a renewal of the ICR that is currently approved through June 30, 2013. Public comments were previously requested via the Federal Register (77 FR 71415) on November 30, 2012, during a 60-day comment period. The ICR, which is abstracted below, describes the nature of the information collection activity and its expected burden and costs. Copies of the ICR and related documents are available in the docket.

DATES: Additional comments may be submitted on or before July 25, 2013.

ADDRESSES: Submit your comments, referencing Docket ID Number EPA-HQ-OPPT-2012-0675, to (1) EPA online using http://www.regulations.gov (our preferred method), by email to oppt.ncic@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Pamela Myrick, Deputy Director, Environmental Assistance Division, Office of Pollution Prevention and Toxics, Mail code: 7408-M, Environmental Protection Agency, 1200 Pennsylvania Ave. NW., Washington, DC 20460; telephone number: 202-554-1404; fax number: 202-564-8251; email address: TSCA-Hotline@epa.gov.

SUPPLEMENTARY INFORMATION: Supporting documents which explain in detail the information that the EPA will be collecting are available in the public docket for this ICR. The docket can be viewed online at http://www.regulations.gov or in person at the EPA Docket Center, EPA West, Room 3334, 1301 Constitution Ave. NW., Washington, DC. The telephone number for the Docket Center is 202-566-1744. For additional information about EPA's public docket, visit http://www.epa.gov/dockets.

Abstract: EPA's Design for the Environment (DfE) Formulator Product Recognition Program formally recognizes safer products where all ingredients have an environmental and human health profile showing that they are the safest in their functional use class. Under the encouragement of this program, leading companies have made great progress in developing safer, highly effective chemical products. Since the program's inception in 1997, formulators have used the program as a portal to OPPT's unique chemical expertise, information resources, and guidance on greener chemistry. DfE Formulator partners enjoy Agency recognition, including the use of the DfE logo on products with the safest possible formulations. In the future, EPA expects much greater program participation due to rising demand for safer products. This information collection enables EPA to accommodate participation by more than nine formulators each year and to enhance program transparency.

Information collection activities associated with this program will assist the Agency in meeting the goals of the Pollution Prevention Act (PPA) (42 U.S.C. 13101 et seq.) by providing resources and recognition for businesses committed to promoting and using safer chemical products. In turn, the program will help businesses meet corporate sustainability goals by providing the means to, and an objective measure of, environmental stewardship. Investment analysts and advisers seek these types of measures in evaluating a corporation's sustainability profile and investment worthiness. Formulator Program partnership is an important impetus for prioritizing and completing the transition to safer chemical products. The Formulator Program is also needed to promote greater use of safer chemical products by companies unaware of the benefits of such a change. EPA has tailored its request for information, and especially the Formulator Product Recognition Program application forms, to ensure that the Agency requests only that information essential to verify applicants' eligibility for recognition.

Responses to the collection of information are voluntary. Respondents may claim all or part of a notice confidential. EPA will disclose information that is covered by a claim of confidentiality only to the extent permitted by, and in accordance with, the procedures in TSCA section 14 and 40 CFR part 2.

Respondents/affected entities: Entities potentially affected by this action are establishments engaged in the formulation of end-use, for-sale chemical products, identified by NAICS codes 325510 (Paint and Coating Manufacturing), 325611 (Soap and Other Detergent Manufacturing), 325612 (Polish and Other Sanitation Good Manufacturing), 325910 (Printing Ink Manufacturing), 325992 (Photographic Film, Paper, Plate, and Chemical Manufacturing), and 325998 (All Other Miscellaneous Chemical Product and Preparation Manufacturing).

Respondent's obligation to respond: Voluntary.

Estimated number of respondents: 66 (total).

Frequency of response: On occasion.

Total estimated burden: 1,193 hours per year. Burden is defined at 5 CFR 1320.03(b).

Total estimated cost: $396,800 per year, including operation and maintenance costs.

Changes in the Estimates: There is an increase of 502 hours, as well as a cost increase of $14,000, in the total estimated respondent burden compared with the ICR currently approved by OMB. This increase reflects EPA's higher estimate of the number of likely respondents to this information collection. This change is an adjustment. The Supporting Statement provides additional detail concerning the change in burden estimate.

Richard T. Westlund,
Acting Director, Collection Strategies Division.

[FR Doc. 2013-15036 Filed 6-24-13; 8:45 am]

BILLING CODE 6560-50-P